DEPARTMENT OF JUSTICE

28 CFR Part 35

[CRT Docket No. 128]

RIN 1190-AA65

Nondiscrimination on the Basis of Disability; Accessibility of Web Information and Services of State and Local Government Entities

AGENCY: Civil Rights Division, Department of Justice.

ACTION: Supplemental advance notice of proposed rulemaking; extension of comment period.

SUMMARY: On May 9, 2016, the Department of Justice (Department) published a Supplemental Advance Notice of Proposed Rulemaking (SANPRM) in the Federal Register addressing the potential application of technical accessibility requirements to the Web sites of title II entities. The comment period is scheduled to close on August 8, 2016. The Department is extending the comment period by 60 days until October 7, 2016, in order to provide additional time for the public to prepare comments.

DATES: The comment period for the SANPRM, published on May 9, 2016 (81 FR 28657), is extended. All comments must be received by October 7, 2016.

ADDRESSES: You may submit comments, identified by RIN 1190-AA65 (or Docket ID No. 128), by any one of the following methods:

• Federal eRulemaking Web site: www.regulations.gov. Follow the Web site's instructions for submitting comments.

• Regular U.S. mail: Disability Rights Section, Civil Rights Division, U.S. Department of Justice, P.O. Box 2885, Fairfax, VA 22031-0885.

• Overnight, courier, or hand delivery: Disability Rights Section, Civil Rights Division, U.S. Department of Justice, 1425 New York Avenue, NW., Suite 4039, Washington, DC 20005.

FOR FURTHER INFORMATION CONTACT: Rebecca Bond, Chief, Disability Rights Section, Civil Rights Division, U.S. Department of Justice, at (202) 307-0663 (voice or TTY). This is not a toll-free number. Information may also be obtained from the Department's toll-free ADA Information Line at (800) 514-0301 (voice) or (800) 514-0383 (TTY). This document is available in alternate formats for people with disabilities.

SUPPLEMENTARY INFORMATION: The Department of Justice published a Supplemental Advance Notice of Proposed Rulemaking (SANPRM) in the Federal Register on May 9, 2016, addressing the potential application of technical accessibility requirements to the Web sites of title II entities. 81 FR 28657 (May 9, 2016). The SANPRM asks 123 multipart questions, seeking public comment on a wide range of complex issues related to the potential technical accessibility requirements as well as any proposed title II Web rule's costs and benefits. Following the SANPRM's publication, the Department received three comments requesting that the public comment period be extended by 90 days. The requests indicated that more time is needed to provide meaningful, comprehensive responses to the SANPRM because of the complexity of issues discussed, the number of questions posed, and the amount of data and information requested.

The Department has decided to grant a 60-day extension of the comment period until October 7, 2016. Given the importance of both providing title II entities with clear guidance regarding their ADA obligations for Web access and providing persons with disabilities equal access to State and local government programs, services, and activities, the Department seeks to continue moving the rulemaking process forward. Additionally, a title II Web accessibility rule is likely to facilitate the creation of an infrastructure for Web accessibility that will be very important in the Department's preparation of the title III Notice of Proposed Rulemaking on Web site accessibility for public accommodations. Further delays in this title II rulemaking, therefore, will have the effect of hindering the title III Web rulemaking's timeline as well. The Department believes that this 60-day extension provides sufficient time to allow interested parties to provide comments on this SANPRM. Comments on the SANPRM may be provided by October 7, 2016, via the methods described above.

Dated: July 25, 2016.
Vanita Gupta,
Principal Deputy Assistant Attorney General, Civil Rights Division.

[FR Doc. 2016-18003 Filed 7-28-16; 8:45 am]

BILLING CODE 4410-13-P